DEPARTMENT OF ENERGY

Federal Energy Regulatory Commission

Combined Notice of Filings

Take notice that the Commission has received the following Natural Gas Pipeline Rate and Refund Report filings:

Filings Instituting Proceedings

Docket Numbers: PR23-31-000.

Applicants: B&W Pipeline, LLC.

Description: § 284.123(g) Rate Filing: Rate Review Petition_B&W Pipeline_SOC Fee to be effective 2/1/2023.

Filed Date: 2/1/23.

Accession Number: 20230201-5160.

Comment Date: 5 p.m. ET 2/16/23.

284.123(g) Protest 4/3/23.

Docket Numbers: RP23-415-000.

Applicants: NEXUS Gas Transmission, LLC.

Description: § 4(d) Rate Filing: Negotiated Rates—Various Releases eff 2-1-23 to be effective 2/1/2023.

Filed Date: 2/1/23.

Accession Number: 20230201-5159.

Comment Date: 5 p.m. ET 2/13/23.

Docket Numbers: RP23-416-000.

Applicants: Northern Natural Gas Company.

Description: § 4(d) Rate Filing: 20230201 Annual PRA to be effective 4/1/2023.

Filed Date: 2/1/23.

Accession Number: 20230201-5166.

Comment Date: 5 p.m. ET 2/13/23.

Docket Numbers: RP23-417-000.

Applicants: Macquarie Energy LLC, NuVista Energy Ltd.

Description: Joint Petition for Limited Waiver of Capacity Release Regulations, et al. of Macquarie Energy LLC, et al. under RP23-417.

Filed Date: 2/1/23.

Accession Number: 20230201-5204.

Comment Date: 5 p.m. ET 2/13/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR23-26-001.

Applicants: Columbia Gas of Maryland, Inc.

Description: § 284.123 Rate Filing: CMD AMENDMENT rates effective 1-1-2023 to be effective N/A.

Filed Date: 2/2/23.

Accession Number: 20230202-5056.

Comment Date: 5 p.m. ET 2/16/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 2, 2023.
Debbie-Anne A. Reese,
Deputy Secretary.

[FR Doc. 2023-02656 Filed 2-7-23; 8:45 am]

BILLING CODE 6717-01-P